DEPARTMENT OF THE INTERIOR

Fish and Wildlife Service

[Docket No. FWS-R8-ES-2023-0190; FXES11140800000-234-FF08ECAR00]

Receipt of Incidental Take Permit Application and Proposed Habitat Conservation Plan, City of Santee, California; Categorical Exclusion

AGENCY: Fish and Wildlife Service, Interior.

ACTION: Notice of availability; request for comments.

SUMMARY: We, the Fish and Wildlife Service (Service), announce receipt of an application from Mr. Louis Jutras (applicant) for an incidental take permit (ITP) under the Endangered Species Act (ESA). The applicant requests the ITP to take the federally threatened coastal California gnatcatcher (Polioptila californica californica) incidental to construction of the Jutras residential home project, in the City of Santee, San Diego County, California. We request public comment on the application, which includes the applicant's proposed habitat conservation plan (HCP), and the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before December 6, 2023.

ADDRESSES:

Obtaining Documents: You may obtain copies of the documents this notice announces, along with any comments and other materials that we receive, online in Docket No. FWS-R8-ES-2023-0190 at https://www.regulations.gov.

Submitting Comments: If you wish to submit comments, you may do so in writing by one of the following methods:

• Online: https://www.regulations.gov. Follow the instructions for submitting comments on Docket No. FWS-R8-ES-2023-0190.

• U.S. mail: Public Comments Processing, Attn: Docket No. FWS-R8-ES-2023-0190; U.S. Fish and Wildlife Service, MS: PRB/3W; 5275 Leesburg Pike; Falls Church, VA 22041-3803.:

FOR FURTHER INFORMATION CONTACT: Mr. Jonathan Snyder, Assistant Field Supervisor, Carlsbad Fish and Wildlife Office, 760-431-9440 (telephone). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from Mr. Louis Jutras (applicant) for a 3-year incidental take permit (ITP) for one covered species pursuant to section 10(a)(1)(B) of the Endangered Species Act of 1973 (ESA), as amended (16 U.S.C. 1531 et seq.). The application addresses the potential “take” of the threatened coastal California gnatcatcher (Polioptila californica californica) in the course of activities associated with the construction of the Jutras residential home project, in the City of Santee, San Diego County, California. We request public comment on the application, which includes the applicant's habitat conservation plan (HCP), and on the Service's preliminary determination that this proposed ITP qualifies as “low effect, ” and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

Proposed Project

A conservation program to avoid, minimize, and mitigate for project activities would be implemented as described in the proposed Habitat Conservation Plan (HCP) by the applicant.

The applicant requests a 3-year ITP under section 10(a)(1)(B) of the ESA. If we approve the permit, the applicant anticipates taking coastal California gnatcatcher (Polioptila californica californica) as a result of permanent impacts to 0.662 acres (ac) of habitat the species uses for breeding, feeding, and sheltering. The take would be incidental to the applicant's activities associated with the construction of the Jutras residential project in the City of Santee, California, and includes preservation of 0.329 ac on site and funding for management of preserved land in the City of Santee.

The Jutras residential project proposes to construct a single-family residence on a 1.015-ac parcel in the City of Santee. The project will permanently impact 0.662 ac of coastal California gnatcatcher occupied habitat and 0.032 ac of disturbed land as a result of clearing and grading activities. The remaining 0.277 ac of coastal California gnatcatcher-occupied Diegan coastal sage scrub (DCSS) and 0.052 ac of disturbed land would not be impacted.

To minimize take of coastal California gnatcatcher by the Jutras residential development project and offset impacts to its habitat, the applicant proposes to mitigate for permanent impacts to 0.662 ac of occupied coastal California gnatcatcher habitat through the contribution of $54,580 for management of preserved land within the City of Santee. The long-term management will be carried out by the Endangered Habitat Conservancy and will be funded by a lump-sum initial contribution by the applicant. The applicant's proposed HCP also contains measures to minimize the effects of construction activities on the coastal California gnatcatcher. The clearing of DCSS will not take place during the gnatcatcher breeding season (defined as February 15 through August 31) when active gnatcatcher nests are present in the DCSS. In the event it is not feasible to clear outside of the gnatcatcher breeding season, pre-construction surveys for nesting birds will be conducted within the week prior to initiating grading activities to ensure construction activities do not occur within 300 feet of an active gnatcatcher nest. A U.S. Fish and Wildlife Service-approved biologist will conduct a training session for the grading contractor and will be present on site during the initial clearing and grubbing activities to ensure that the direct impacts are limited to the project footprint.

Proposed Action and Alternatives

The proposed action consists of the issuance of an incidental take permit and implementation of the proposed HCP, which includes measures to avoid, minimize, and mitigate impacts to covered species. To comply with the requirements for an HCP under ESA section 10(a), alternatives to the project and the incidental take of coastal California gnatcatcher were evaluated. Under the No Action Alternative, the project would not be constructed, and no ITP would be issued. The applicant would have no use of their private property. With implementation of the project, the single-family home would be situated in the northwestern corner of the project site, as close as feasible to the existing home to the north and to the adjacent parcel with approved TM 08-04 to the west. Previous iterations of the project design with the home sited in the middle of the project site were considered; however, the impacts to Diegan coastal sage scrub were greater than under the current project design and would not avoid incidental take of the coastal California gnatcatcher. Therefore, the project is the most biologically conservative feasible configuration for development of a single-family residence on the project site.

Our Preliminary Determination

The Service has made a preliminary determination that the applicant's proposed project would individually and cumulatively have a minor effect on the California gnatcatcher and the human environment. Therefore, we have preliminarily determined that the proposed ESA section 10(a)(1)(B) ITP would be a “low-effect” ITP that individually or cumulatively would have a minor effect on the species and may qualify for application of a categorical exclusion pursuant to the Council on Environmental Quality's NEPA regulations, DOI's NEPA regulations, and the DOI Departmental Manual. A “low-effect” ITP is one that would result in (1) minor or nonsignificant effects on species covered in the HCP; (2) nonsignificant effects on the human environment; and (3) impacts that, when added together with the impacts of other past, present, and reasonable foreseeable actions, would not result in significant cumulative effects to the human environment.

Next Steps

The Service will evaluate the application and the comments received to determine whether to issue the requested ITP. We will also conduct an intra-Service consultation pursuant to section 7 of the ESA to evaluate the effects of the proposed take. After considering the preceding and other matters, we will determine whether the permit issuance criteria of section 10(a)(1)(B) of the ESA have been met. If met, the Service will issue the permit to the applicant for incidental take of coastal California gnatcatcher.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10 of the ESA (16 U.S.C. 1531 et seq.) and its implementing regulations (50 CFR 17.22 and 17.32) and the National Environmental Policy Act (42 U.S.C. 4321 et seq.) and its implementing regulations (40 CFR 1500-1508 and 43 CFR 46).

Scott A. Sobiech,
Field Supervisor, Carlsbad Fish and Wildlife Office, Carlsbad, California.

[FR Doc. 2023-24404 Filed 11-3-23; 8:45 am]

BILLING CODE 4333-15-P